DEPARTMENT OF COMMERCE

Bureau of the Census

[Docket Number 050714187-5187-01]

Annual Wholesale Trade Survey

AGENCY: Bureau of the Census, Commerce.

ACTION: Notice of Determination.

SUMMARY: The Bureau of the Census (Census Bureau) is conducting the Annual Wholesale Trade Survey. The Census Bureau has determined that it needs to collect data covering annual sales; e-commerce sales; and year-end inventories, purchases, commissions, and operating expenses. These data are important inputs to the Bureau of Economic Analysis's (BEA) preparation of National Income and Products Accounts and its annual input-output tables.

FOR FURTHER INFORMATION CONTACT: John R. Trimble, Chief, Annual Wholesale and Special Projects Branch, Service Sector Statistics Division, on (301) 763-7223 or by e-mail at John.R.Trimble@census.gov.

SUPPLEMENTARY INFORMATION: The Annual Wholesale Trade Survey is a continuation of similar wholesale trade surveys conducted each year since 1978 for distributors, and since 2003, for manufacturers' sales branches and offices (MSBOs). This survey provides, on a comparable classification basis, annual sales, e-commerce sales, purchases, commissions and operating expenses, and year-end inventories for 2004. These data are not available publicly on a timely basis from nongovernmental or other governmental sources.

The Census Bureau will require a selected sample of firms operating wholesale establishments in the United States (with sales size determining the probability of selection) to report in the 2005 Annual Wholesale Trade Survey. We will furnish report forms to the firms covered by this survey and will require their submission within 30 days after receipt. The sample will provide, with measurable reliability, statistics on the subjects specified above.

The Census Bureau is authorized to take surveys that are necessary to furnish current data on the subject covered by the censuses authorized by Title 13, United States Code, Sections 182, 224, and 225. This survey will provide continuing and timely national statistics data on wholesale trade for the period between economic censuses. For 2005, the survey will, as it has in the past for distributors and MSBOs, operate as a separate sample of wholesale companies. The data collected in this survey will be similar to that collected in the past and within the general scope and nature of those inquiries covered in the economic census. The data collected in this survey will provide a sound statistical basis for the formation of policy by various government agencies. These data also apply to a variety of public and business needs.

Notwithstanding any other provision of law, no person is required to respond to, nor shall a person be subject to a penalty for failure to comply with, a collection of information subject to the requirements of the Paperwork Reduction Act (PRA) unless that collection of information displays a current valid Office of Management and Budget (OMB) control number. In accordance with the PRA, Title 44, United States Code, Chapter 35, OMB approved this survey under OMB control number 0607-0195. We will furnish report forms to organizations included in the survey. Additional copies are available on written request to the Director, U.S. Census Bureau, Washington, DC 20233-0101.

Based upon the foregoing, I have directed that an annual survey be conducted for the purpose of collecting these data.

Dated: September 9, 2005.
Charles Louis Kincannon,
Director, Bureau of the Census.

[FR Doc. 05-18247 Filed 9-13-05; 8:45 am]

BILLING CODE 3510-07-P